DEPARTMENT OF JUSTICE

Drug Enforcement Administration

[Docket No. DEA-392]

Importer of Controlled Substances Registration: Lipomed, Inc.

ACTION: Notice of registration.

SUMMARY: Lipomed, Inc. applied to be registered as an importer of certain basic classes of controlled substances. The Drug Enforcement Administration (DEA) grants Lipomed, Inc. registration as an importer of those controlled substances.

SUPPLEMENTARY INFORMATION: By notice dated June 25, 2015, and published in the Federal Register on July 6, 2015, 80 FR 38468, Lipomed, Inc., One Broadway, Cambridge, Massachusetts 02142 applied to be registered as an importer of certain basic classes of controlled substances. No comments or objections were submitted for this notice.

The DEA has considered the factors in 21 U.S.C. 823, 952(a) and 958(a) and determined that the registration of Lipomed, Inc. to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of controlled substances:

Controlled substance | Schedule
Cathinone (1235) | I
Methcathinone (1237) | I
Mephedrone (4-Methyl-N-methylcathinone) (1248) | I
N-Ethylamphetamine (1475) | I
N,N-Dimethylamphetamine (1480) | I
Fenethylline (1503) | I
Aminorex (1585) | I
4-Methylaminorex (cis isomer) (1590) | I
Gamma Hydroxybutyric Acid (2010) | I
Methaqualone (2565) | I
Mecloqualone (2572) | I
JWH-250 (1-Pentyl-3-(2-methoxyphenylacetyl) indole) (6250) | I
SR-18 (Also known as RCS-8) (1-Cyclohexylethyl-3-(2-methoxyphenylacetyl) indole) (7008) | I
JWH-019 (1-Hexyl-3-(1-naphthoyl)indole) (7019) | I
JWH-081 (1-Pentyl-3-(1-(4-methoxynaphthoyl) indole) (7081) | I
SR-19 (Also known as RCS-4) (1-Pentyl-3-[(4-methoxy)-benzoyl] indole (7104) | I
JWH-018 (also known as AM678) (1-Pentyl-3-(1-naphthoyl) indole) (7118) | I
JWH-122 (1-Pentyl-3-(4-methyl-1-naphthoyl) indole) (7122) | I
JWH-073 (1-Butyl-3-(1-naphthoyl)indole) (7173) | I
JWH-200 (1-[2-(4-Morpholinyl)ethyl]-3-(1-naphthoyl) indole) (7200) | I
AM-2201 (1-(5-Fluoropentyl)-3-(1-naphthoyl) indole) (7201) | I
JWH-203 (1-Pentyl-3-(2-chlorophenylacetyl) indole) (7203) | I
Alpha-ethyltryptamine (7249) | I
Ibogaine (7260) | I
CP-47,497 (5-(1,1-Dimethylheptyl)-2-[(1R,3S)-3-hydroxycyclohexyl-phenol) (7297) | I
CP-47,497 C8 Homologue (5-(1,1-Dimethyloctyl)-2-[(1R,3S)3-hydroxycyclohexyl-phenol) (7298) | I
Lysergic acid diethylamide (7315) | I
2,5-Dimethoxy-4-(n)-propylthiophenethylamine (2C-T-7) (7348) | I
Marihuana (7360) | I
Tetrahydrocannabinols (7370) | I
Parahexyl (7374) | I
Mescaline (7381) | I
2-(4-Ethylthio-2,5-dimethoxyphenyl) ethanamine (2C-T-2) (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (1-Pentyl-3-(4-chloro-1-naphthoyl) indole (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Bufotenine (7433) | I
Psilocybin (7437) | I
Psilocyn (7438) | I
5-Methoxy-N,N-diisopropyltryptamine (7439) | I
N-Ethyl-1-phenylcyclohexylamine (7455) | I
1-[1-(2-Thienyl)cyclohexyl]piperidine (7470) | I
1-[1-(2-Thienyl)cyclohexyl]pyrrolidine (7473) | I
N-Ethyl-3-piperidyl benzilate (7482) | I
N-Methyl-3-piperidyl benzilate (7484) | I
N-Benzylpiperazine (7493) | I
2-(2,5-Dimethoxy-4-methylphenyl) ethanamine (2C-D) (7508) | I
2-(2,5-Dimethoxy-4-ethylphenyl) ethanamine (2C-E) (7509) | I
2-(2,5-Dimethoxyphenyl) ethanamine (2C-H) (7517) | I
2-(4-Iodo-2,5-dimethoxyphenyl) ethanamine (2C-I) (7518) | I
2-(4-Chloro-2,5-dimethoxyphenyl) ethanamine (2C-C) (7519) | I
2-(2,5-Dimethoxy-4-nitro-phenyl) ethanamine (2C-N) (7521) | I
2-(2,5-Dimethoxy-4-(n)-propylphenyl) ethanamine (2C-P) (7524) | I
2-(4-Isopropylthio)-2,5-dimethoxyphenyl) ethanamine (2C-T-4) (7532) | I
MDPV (3,4-Methylenedioxypyrovalerone) (7535) | I
Methylone (3,4-Methylenedioxy-N-methylcathinone) (7540) | I
AM-694 (1-(5-Fluropentyl)-3-(2-iodobenzoyl) indole) (7694) | I
Acetyldihydrocodeine (9051) | I
Benzylmorphine (9052) | I
Codeine-N-oxide (9053) | I
Cyprenorphine (9054) | I
Desomorphine (9055) | I
Etorphine (except HCI) (9056) | I
Codeine methylbromide (9070) | I
Dihydromorphine (9145) | I
Difenoxin (9168) | I
Heroin (9200) | I
Hydromorphinol (9301) | I
Methyldesorphine (9302) | I
Methyldihydromorphine (9304) | I
Morphine methylbromide (9305) | I
Morphine methylsulfonate (9306) | I
Morphine-N-oxide (9307) | I
Myrophine (9308) | I
Nicocodeine (9309) | I
Nicomorphine (9312) | I
Normorphine (9313) | I
Pholcodine (9314) | I
Thebacon (9315) | I
Acetorphine (9319) | I
Acetylmethadol (9601) | I
Allylprodine (9602) | I
Alphacetylmethadol except levo-alphacetyl-methadol (9603) | I
Alphamethadol (9605) | I
Dioxaphetyl butyrate (9621) | I
Dipipanone (9622) | I
Ethylmethylthiambutene (9623) | I
Etonitazene (9624) | I
Etoxeridine (9625) | I
Furethidine (9626) | I
Hydroxypethidine (9627) | I
Ketobemidone (9628) | I
Levomoramide (9629) | I
Levophenacylmorphan (9631) | I
Morpheridine (9632) | I
Noracymethadol (9633) | I
Norlevorphanol (9634) | I
Normethadone (9635) | I
Norpipanone (9636) | I
Phenadoxone (9637) | I
Phenampromide (9638) | I
Phenoperidine (9641) | I
Piritramide (9642) | I
Proheptazine (9643) | I
Properidine (9644) | I
Racemoramide (9645) | I
Trimeperidine (9646) | I
Phenomorphan (9647) | I
Propiram (9649) | I
Tilidine (9750) | I
Para-Fluorofentanyl (9812) | I
3-Methylfentanyl (9813) | I
Acetyl-alpha-methylfentanyl (9815) | I
Beta-hydroxy-3-methylfentanyl (9831) | I
Amphetamine (1100) | II
Methamphetamine (1105) | II
Lisdexamfetamine (1205) | II
Phenmetrazine (1631) | II
Methylphenidate (1724) | II
Amobarbital (2125) | II
Pentobarbital (2270) | II
Secobarbital (2315) | II
Glutethimide (2550) | II
Nabilone (7379) | II
1-Phenylcyclohexylamine (7460) | II
Phencyclidine (7471) | II
4-Anilino-N-phenethyl-4-piperidine (8333) | II
Phenylacetone (8501) | II
1-Piperidinocyclohexanecarbonitrile (8603) | II
Alphaprodine (9010) | II
Anileridine (9020) | II
Cocaine (9041) | II
Codeine (9050) | II
Etorphine HCI (9059) | II
Dihydrocodeine (9120) | II
Oxycodone (9143) | II
Hydromorphone (9150) | II
Diphenoxylate (9170) | II
Ecgonine (9180) | II
Ethylmorphine (9190) | II
Hydrocodone (9193) | II
Levomethorphan (9210) | II
Levorphanol (9220) | II
Isomethadone (9226) | II
Meperidine (9230) | II
Meperidine intermediate-B (9233) | II
Metazocine (9240) | II
Methadone (9250) | II
Methadone intermediate (9254) | II
Metopon (9260) | II
Dextropropoxyphene, bulk (non-dosage forms) (9273) | II
Morphine (9300) | II
Thebaine (9333) | II
Dihydroetorphine (9334) | II
Levo-alphacetylmethadol (9648) | II
Oxymorphone (9652) | II
Noroxymorphone (9668) | II
Phenazocine (9715) | II
Piminodine (9730) | II
Racemethorphan (9732) | II
Racemorphan (9733) | II
Alfentanil (9737) | II
Remifentanil (9739) | II
Sufentanil (9740) | II
Carfentanil (9743) | II
Tapentadol (9780) | II
Bezitramide (9800) | II
Fentanyl (9801) | II

The company plans to import analytical reference standards for distribution to its customers for research and analytical purposes. Placement of these drug codes onto the company's registration does not translate into automatic approval of subsequent permit applications to import controlled substances. Approval of permit applications will occur only when the registrant's business activity is consistent with what is authorized under 21 U.S.C. 952(a)(2). Authorization will not extend to the import of FDA approved or non-approved finished dosage forms for commercial sale.

Dated: January 11, 2016.
Louis J. Milione,
Deputy Assistant Administrator.

[FR Doc. 2016-00789 Filed 1-15-16; 8:45 am]

BILLING CODE 4410-09-P